DEPARTMENT OF DEFENSE

Department of the Army

Availability for Non-Exclusvie, Exclusive, or Partially Exclusvie Licensing of U.S. Patent Application Concerning Use of Antibodies to Sialidase as Anti-Infectious Agents and Anti-Inflammatory Agents

AGENCY: U.S. Army Medical Research and Materiel Command, DoD.

ACTION: Notice.

SUMMARY: In accordance with 37 CFR 404.6, announcement is made of the availability for licensing of U.S. Patent No. 6,066,323 entitled “Use of Antibodies to Sialidase as Anti-infectious Agents and Anti-Inflammatory Agents” issued May 23, 2000. This patent application has been assigned to the United States Government as represented by the Secretary of the Army.

ADDRESSES: Commander, U.S. Army Medical Research and Materiel Command, ATTN: Command Judge Advocate, MCMR-JA, 504 Scott Street, Fort Detrick, Frederick, Maryland 21702-5012

FOR FURTHER INFORMATION CONTACT: For patent issues, Ms. Elizabeth Arwine, Patent Attorney, (301) 619-7808. For licensing issues, Dr. Paul Mele, Office of Research & Technology Assessment, (301) 619-6664. Both telefax (301) 619-5034.

SUPPLEMENTARY INFORMATION: Sialic acids have the ability to prevent hyposialylation of cells as competitive inhibitors of endogenous sialidse. It is now also possible to develop antibodies to mammalian sialidase that significantly reduce influx of neutrophils into inflammatory sites.

Gregory D. Showalter,
Army Federal Register Liaison Officer.

[FR Doc. 01-7262 Filed 3-22-01; 8:45 am]

BILLING CODE 3770-08-M